DEPARTMENT OF COMMERCE

National Oceanic and Atmospheric Administration

RIN 0648-XG117

South Atlantic Fishery Management Council (Council); Public Meetings

AGENCY: National Marine Fisheries Service (NMFS), National Oceanic and Atmospheric Administration (NOAA), Commerce.

ACTION: Notice of meetings of the South Atlantic Fishery Management Council's advisory panels.

SUMMARY: The Council will hold meetings of the following advisory panels in April 2018: Snapper Grouper; the Mackerel Cobia and Cobia Sub-Panel; and Law Enforcement.

DATES: The Snapper Grouper AP meeting will take place April 11, 2018, from 1:30 p.m. to 5 p.m., April 12, from 9 a.m. until 5 p.m., and April 13, from 9 a.m. until 12 p.m. The Mackerel Cobia AP and Cobia Subpanel will meet April 16, 2018, from 8:30 a.m. until 5 p.m. and April 17, 2018, from 8:30 a.m. until 1 p.m. The Law Enforcement AP will meet on April 18, 2018, from 1:30 p.m. until 5 p.m. and April 19, 2018, from 9 a.m. until 5 p.m.

ADDRESSES:

Meeting address: The meetings will be held at the Crowne Plaza Hotel, 4831 Tanger Outlet Blvd., North Charleston, SC 29418.

Council address: South Atlantic Fishery Management Council, 4055 Faber Place Drive, Suite 201,N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION:

Snapper Grouper Advisory Panel

Agenda items for the Snapper Grouper AP include the following: A review of Regulatory Amendment 28 (golden tilefish measures); a socio-economic profile of the commercial snapper grouper fishery; development of Fishery Performance Reports for red porgy and greater amberjack; research needs for the Council's Citizen Science Program; U.S. Coast Guard living marine resources law enforcement priorities; and updates on amendments currently under development and stock assessment schedules. Advisory panel members will provide recommendations as appropriate.

Mackerel Cobia AP and Cobia Subpanel

The Mackerel Cobia AP and Cobia Sub-Panel will meet jointly. The AP and Cobia Sub-Panel will receive updates on recent actions related to Coastal Migratory Pelagic (CMP) species including: Framework Amendment 6 to the CMP Fishery Management Plan for the Gulf of Mexico and South Atlantic (king mackerel trip limits), Amendment 31 to the CMP Fishery Management Plan (Atlantic cobia management), and the Southeast, Data, Assessment and Review (SEDAR) 58 Stock Identification Workshop and Benchmark Assessment for Atlantic cobia. The AP and Sub-Panel will also receive updates and discuss management measures relative to: Citizen science research needs, United States Coast Guard (USCG) law enforcement priorities, Spanish mackerel gill net regulations, regulatory reform for CMP species, and the Southeast Area Monitoring and Assessment Program (SEAMAP) Coastal Trawl Survey. The AP and Sub-Panel will provide recommendations as appropriate. The AP and Sub-Panel will also complete Fishery Performance Reports for king mackerel and Spanish mackerel.

Law Enforcement AP

Agenda items for the Law Enforcement AP meeting include the following: Input on law enforcement issues relative to a review of the Wreckfish Individual Transferable Quota (ITQ) Program; discussion of penalties; shrimp regulations (recreational fishing and possession) in federal waters; USCG law enforcement priorities; Spiny Lobster Amendment 13 (bully nets and gear modifications); Spanish mackerel gillnet mesh size requirements; and updates on amendments under development, a mobile app to assist enforcement of reporting requirements, enforcement of managed areas, and protected resources issues. Advisory panel members will provide recommendations as appropriate.

Special Accommodations

These meetings are physically accessible to people with disabilities. Requests for auxiliary aids should be directed to the council office (see ADDRESSES) 3 days prior to the public hearings.

Note: The times and sequence specified in this agenda are subject to change.

Authority: 16 U.S.C. 1801 et seq.

Dated: March 22, 2018.
Jeffrey N. Lonergan,
Acting Deputy Director, Office of Sustainable Fisheries, National Marine Fisheries Service.

[FR Doc. 2018-06087 Filed 3-26-18; 8:45 am]

BILLING CODE 3510-22-P